DEPARTMENT OF TRANSPORTATION

National Highway Traffic Safety Administration

[Docket No. NHTSA-2003-16334; Notice 2]

Decision That Nonconforming 2000 Audi A8 and S8 Passenger Cars Are Eligible for Importation

AGENCY: National Highway Traffic Safety Administration, DOT.

ACTION: Notice of decision by National Highway Traffic Safety Administration that nonconforming 2000 Audi A8 and S8 passenger cars are eligible for importation.

SUMMARY: This document announces a decision by the National Highway Traffic Safety Administration (NHTSA) that certain 2000 Audi A8 and S8 passenger cars that were not originally manufactured to comply with all applicable Federal motor vehicle safety standards (FMVSS) are eligible for importation into the United States because they are substantially similar to vehicles originally manufactured for importation into and sale in the United States and that were certified by their manufacturer as complying with the safety standards (the U.S. certified version of the 2000 Audi A8 and S8 passenger cars), and they are capable of being readily altered to conform to the standards.

DATES: This decision was effective January 6, 2004. The agency notified the petitioner at that time that the subject vehicles are eligible for importation. This document provides public notice of the eligibility decision.

FOR FURTHER INFORMATION CONTACT: Coleman Sachs, Office of Vehicle Safety Compliance, NHTSA (202-366-3151).

SUPPLEMENTARY INFORMATION:

Background

Under 49 U.S.C. 30141(a)(1)(A), a motor vehicle that was not originally manufactured to conform to all applicable FMVSS shall be refused admission into the United States unless NHTSA has decided that the motor vehicle is substantially similar to a motor vehicle originally manufactured for importation into and sale in the United States, certified as required under 49 U.S.C. 30115, and of the same model year as the model of the motor vehicle to be compared, and is capable of being readily altered to conform to all applicable FMVSS.

Petitions for eligibility decisions may be submitted by either manufacturers or importers who have registered with NHTSA pursuant to 49 CFR Part 592. As specified in 49 CFR 593.7, NHTSA publishes notice in the Federal Register of each petition that it receives, and affords interested persons an opportunity to comment on the petition. At the close of the comment period, NHTSA decides, on the basis of the petition and any comments that it has received, whether the vehicle is eligible for importation. The agency then publishes this decision in the Federal Register.

J.K. Technologies, LLC (JK) of Baltimore, Maryland (Registered Importer 90-006), petitioned NHTSA to decide whether 2000 Audi A8 and S8 passenger cars are eligible for importation into the United States. NHTSA published notice of the petition on October 24, 2003 (68 FR 61034) to afford an opportunity for public comment. The reader is referred to that notice for a thorough description of the petition.

One comment was received in response to the notice of petition, from Volkswagen of America, Inc. (VW), the U.S. representative of the vehicle's original manufacturer. VW addressed issues it believed J.K. had overlooked in describing alterations necessary to conform 2000 Audi A8 and S8 vehicles to FMVSS No. 208 Occupant Crash Protection.

The petition stated that the vehicles are capable of being readily altered to comply with FMVSS No. 208 Occupant Crash Protection by reprogramming the seat belt warning system so that it activates in the required manner. The petition also stated that the vehicles are equipped with automatic restraint systems consisting of dual front air bags, and with combination lap and shoulder belts at the front and rear outboard designated seating positions that are self-tensioning and release by means of a single red pushbutton. The petition described these components and systems as being identical to those found on U.S. certified vehicles.

In its comment, VW acknowledged that the modifications identified in the petition are appropriate, but noted that additional modifications are necessary. Specifically, VW stated that the driver's seat belt buckle needs to be replaced to provide the required seat belt visual and audible warnings, and knee bolsters would have to be installed to conform to the injury criteria requirements of FMVSS No. 208.

The agency accorded J.K. an opportunity to respond to the issues raised by VW. In its response, J.K. stated that if after reprogramming, the visual and audible warnings do not activate correctly, the driver's side seat belt buckle will be replaced. J.K. further noted that all vehicles imported into the United States must be inspected for the presence of conforming knee bolsters.

Based on these considerations, the agency decided to grant the petition.

Vehicle Eligibility Number for Subject Vehicles

The importer of a vehicle admissible under any final decision must indicate on the form HS-7 accompanying entry the appropriate vehicle eligibility number indicating that the vehicle is eligible for entry. VSP-424 is the vehicle eligibility number assigned to vehicles admissible under this notice of final decision.

Final Decision

Accordingly, on the basis of the foregoing, NHTSA has decided that 2000 Audi A8 and S8 passenger cars that were not originally manufactured to comply with all applicable FMVSS are substantially similar to 2000 Audi A8 and S8 passenger cars originally manufactured for importation into and sale in the United States and certified under 49 U.S.C. 30115, and are capable of being readily altered to conform to all applicable FMVSS.

Authority: 49 U.S.C. 30141(a)(1)(A) and (b)(1); 49 CFR 593.8; delegations of authority at 49 CFR 1.50 and 501.8.

Claude H. Harris,
Director, Office of Vehicle Safety Compliance.

[FR Doc. E6-2177 Filed 2-14-06; 8:45 am]

BILLING CODE 4910-59-P